DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases, Special Emphasis Panel.

A Cooperative Research Partnerships for Biodefense, and Emerging Infectious Diseases SEP 1.

Date: September 15, 2008.

Time: 11 a.m. to 4 p.m.

Agenda: To review and evaluate grant applications.

Place: National Institutes of Health, 6700B Rockledge Drive, 3122, Bethesda, MD 20817 (Telephone Conference Call).

Contact Person: Brenda Lange-Gustafson, PhD, Scientific Review Officer, NIAID, DEA, Scientific Review Program, Room 3122, 6700-B Rockledge Drive, MSC-7616, Bethesda, MD 20892-7616, (301) 451-3684, bgustafson@niaid.nih.gov.

Name of Committee: National Institute of Allergy and Infectious Diseases, Special Emphasis Panel, A Cooperative Research Partnerships for Biodefense, and Emerging Infectious Diseases SEP 2.

Date: September 18, 2008.

Time: 11 a.m. to 4 p.m.

Agenda: To review and evaluate grant applications.

Place: National Institutes of Health, 6700B Rockledge Drive, 3122, Bethesda, MD 20817 (Telephone Conference Call).

Contact Person: Brenda Lange-Gustafson, PhD, Scientific Review Officer, NIAID, DEA, Scientific Review Program, Room 3122, 6700-B Rockledge Drive, MSC-7616, Bethesda, MD 20892-7616, (301) 451-3684, bgustafson@niaid.nih.gov.

Name of Committee: National Institute of Allergy and Infectious Diseases, Special Emphasis Panel, Regional Centers of Excellence for Biodefense, and Emerging Infectious Diseases-September.

Date: September 22-24, 2008.

Time: 8 a.m. to 5 p.m.

Agenda: To review and evaluate grant applications.

Place: Crowne Plaza Hotel Washington DC/Silver Spring, 8777 Georgia Avenue, Silver Spring, MD 20910.

Contact Person: Darren D Sledjeski, PhD, Scientific Review Officer, National Institutes of Health/NIAID, Scientific Review Program, 6700-B Rockledge Drive, MSC-7616 Room 3131, Bethesda, MD 20892-7616, (301) 451-2638, sledjeskid@niaid.nih.gov.

Name of Committee: National Institute of Allergy and Infectious Diseases, Special Emphasis Panel, Regional Centers of Excellence for Biodefense, and Emerging Infectious Diseases.

Date: October 6-8, 2008.

Time: 7:30 a.m. to 5 p.m.

Agenda: To review and evaluate grant applications.

Place: Bethesda North Marriott Hotel & Conference Center, 5701 Marinelli Rd., Bethesda, MD 20852.

Contact Person: Darren D Sledjeski, PhD, Scientific Review Officer, National Institutes of Health/NIAID, Scientific Review Program, 6700-B Rockledge Drive, MSC-7616 Room 3131, Bethesda, MD 20892-7616, (301) 451-2638, sledjeskid@niaid.nih.gov.

(Catalogue of Federal Domestic Assistance Program Nos. 93.855, Allergy, Immunology, and Transplantation Research; 93.856, Microbiology and Infectious Diseases Research, National Institutes of Health, HHS)

Dated: August 20, 2008.
Jennifer Spaeth,
Director, Office of Federal Advisory Committee Policy.

[FR Doc. E8-19798 Filed 8-26-08; 8:45 am]

BILLING CODE 4140-01-M